DEPARTMENT OF TRANSPORTATION

Federal Aviation Administration

Notice of Intent To Rule on Application 03-07-C-00-ESC To Impose and Use the Revenue from a Passenger Facility Charge (PFC) at Delta County Airport, Escanaba, MI

AGENCY: Federal Aviation Administration (FAA), DOT.

ACTION: Notice of intent to rule on application.

SUMMARY: The FAA proposes to rule and invites public comment on the application to impose and use the revenue from a PFC at Delta County Airport under the provisions of the 49 U.S.C. 401176 and part 158 of the Federal Aviation Regulations (14 CFR part 158).

DATES: Comments must be received on or before April 24, 2003.

ADDRESSES: Comments on this application may be mailed or delivered in triplicate to the FAA at the following address: Federal Aviation Administration, Detroit Airports District Office, Willow Run Airport, East, 8820 Beck Road Belleville, Michigan 48111. The application may be reviewed in person at this location.

In addition, one copy of any comments submitted to the FAA must be mailed or delivered to Mr. Richard Severson, Airport Manager, Delta County Airport at the following address: Delta County Airport, 3300 Airport Road, Escanaba, Michigan 49829.

Air carriers and foreign air carriers may submit copies of written comments previously provided to the Delta County under section 158.23 of part 158.

FOR FURTHER INFORMATION CONTACT: Ms. Arlene B. Draper, Program Manager, Federal Aviation Administration, Detroit Airports District Office, Willow Run Airport, East, 8820 Beck Road, Belleville, Michigan 48111 (734-487-7282). The application may be reviewed in person at this same location.

SUPPLEMENTARY INFORMATION: The FAA proposes to rule and invites public comment on the application to impose and use the revenue from a PFC at Delta County Airport under the provisions of the 49 U.S.C. 401117 and part 158 of the Federal Aviation Regulations (14 CFR part 158).

On March 5, 2003, the FAA determined that the application to impose and use the revenue form a PFC submitted by Delta County was substantially complete within the requirements of section 158.25 of Part 158. The FAA will approve or disapprove the application, in whole or in part, not later than June 27, 2003.

The following is a brief overview of the application.

Proposed charge effective date: March 1, 2004.

Proposed charge expiration date: December 31, 2006.

Level of the proposed PFC for new impose/use: $4.50.

Total estimated PFC revenue: $54,500.

Brief description of proposed projects:

Impose and Use at the $4.50: Expand Terminal Parking Lot and Relocate Airport Access Road.

Use Only at the $3.00 Level: Construct Runway Safety Area for Runway 9.

Class or classes of air carriers, which the public agency has requested to be required to collect PFCs: Air Taxi and Charters.

Any person may inspect the application in person at the FAA office listed above under FOR FURTHER INFORMATION CONTACT.

In addition, any person may, upon request, inspect the application, notice and other documents germane to the application in person at Delta County.

Issued in Des Plaines, Illinois, on March 17, 2003.
Mark McClardy,
Manager, Planning and Programming Branch, Airports Division, Great Lakes Region

[FR Doc. 03-7076 Filed 3-24-03; 8:45 am]

BILLING CODE 4910-13-M